ENVIRONMENTAL PROTECTION AGENCY

[EPA-HQ-OPP-2022-0163; FRL-9408-11-OCSPP]

Pesticide Product Registration; Receipt of Applications for New Uses, November 2022

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before February 2, 2023.

ADDRESSES: Submit your comments, identified by docket identification (ID) number EPA-HQ-OPP-2022-0163, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. File Symbols: 35935-REI, 71368-RUE, 71368-RUR. EPA Registration Numbers: 228-742, 15440-24, 15440-35, 71368-130. Docket ID number: EPA-HQ-OPP-2022-0594. Applicant: Nufarm Limited, C/O Nufarm Americas Inc., 4020 Aerial Center Parkway, Suite 101, Morrisville, NC 27560. Active ingredient: Dichlorprop-p. Product type: Herbicide. Proposed uses: Barley, canarygrass (annual), corn (field, pop, sweet), fallow (alfalfa termination and cotton termination), fallowland and crop stubble, oat, oat (common), millet (barnyard, finger, foxtail, little, pearl, proso), rye, sorghum, soybean, teff, teosinte, triticale, wheat (common, durum), wheatgrass (intermediate). Contact: RD.

2. EPA Registration Numbers: 264-776 and 264-826. Docket ID number: EPA-HQ-OPP-2021-0448. Applicant: Bayer CropScience LP, 800 N. Lindbergh Boulevard St. Louis, MO 63169. Active ingredient: Trifloxystrobin. Product type: Fungicide. Proposed uses: Bulb onion subgroup 3-07A, green onion subgroup 3-07B, edible podded bean legume vegetable subgroup 6-22A, and crop group subgroup conversions and expansions. Contact: RD.

3. File Symbols: 35935-REI, 71368-RUE, 71368-RUR. EPA Registration Numbers: 228-742, 15440-24, 15440-35, 71368-130. Docket ID number: EPA-HQ-OPP-2022-0594. Applicant: Nufarm Limited, C/O Nufarm Americas Inc., 4020 Aerial Center Parkway, Suite 101, Morrisville, NC 27560. Active ingredient: Dichlorprop-p. Product type: Herbicide. Proposed uses: Barley, canarygrass (annual), corn (field, pop, sweet), fallow (alfalfa termination and cotton termination), fallowland and crop stubble, oat, oat (common), millet (barnyard, finger, foxtail, little, pearl, proso), rye, sorghum, soybean, teff, teosinte, triticale, wheat (common, durum), wheatgrass (intermediate). Contact: RD.

4. EPA Registration Numbers: 70506-514, 70506-602, 70506-603, 91813-79. Docket ID number: EPA-HQ-OPP-2022-0455. Applicant: UPL Delaware Inc. and UPL NA Inc. 630 Freedom Business Center, Suite 402 King of Prussia, PA 19406. Active ingredient: Carboxin. Product type: Fungicide. Proposed Use(s): Additional new food uses of Carboxin on Subgroup 6-22F: pulses, dried shelled pea: Contact: RD.

5. EPA Registration Numbers 71512-7, 71512-9, 71512-10, and 71512-14. Docket ID number: EPA-HQ-OPP-2022-0382. Applicant: ISK Biosciences Corporation, 7470 Auburn Road, Suite A, Concord, OH 44077. Active ingredient: Flonicamid. Product type: Insecticide. Proposed uses: Bushberry subgroup 13-07B; caneberry subgroup 13-07A; corn (sweet); legume vegetable group 6-22; pomegranate; and prickly pear cactus. Contact: RD.

6. File Symbol: 71693-G. Docket ID number: EPA-HQ-OPP-2022-0943. Applicant: Arizona Cotton Research and Protection Council, 3721 East Wier Avenue, Phoenix, Arizona 85040-2933. Active ingredient: Aspergillus flavus strain AF36. Product type: Fungicide. Proposed use: For application to all food and feed commodities of cotton, corn, pistachio, almond, and fig to displace aflatoxin-producing strains of Aspergillus flavus. Contact: BPPD.

Authority: 7 U.S.C. 136 et seq.

Dated: December 21, 2022.
Delores Barber,
Director, Information Technology and Resources Management Division, Office of Program Support.

[FR Doc. 2022-28528 Filed 12-30-22; 8:45 am]

BILLING CODE 6560-50-P